DEPARTMENT OF HOMELAND SECURITY

Federal Emergency Management Agency

44 CFR Part 67

[Docket ID FEMA-2016-0002]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The Federal Emergency Management Agency (FEMA) makes the final determinations listed below for the modified BFEs for each community listed. These modified elevations have been published in newspapers of local circulation and ninety (90) days have elapsed since that publication. The Deputy Associate Administrator for Insurance and Mitigation has resolved any appeals resulting from this notification.

This final rule is issued in accordance with section 110 of the Flood Disaster Protection Act of 1973, 42 U.S.C. 4104, and 44 CFR part 67. FEMA has developed criteria for floodplain management in floodprone areas in accordance with 44 CFR part 60. Interested lessees and owners of real property are encouraged to review the proof Flood Insurance Study and FIRM available at the address cited below for each community. The BFEs and modified BFEs are made final in the communities listed below. Elevations at selected locations in each community are shown.

National Environmental Policy Act. FEMA has reviewed this final rule for purposes of the National Environmental Policy Act of 1969 (42 U.S.C. 4321 et seq.) and has determined that this action will not have a significant effect on the human environment. This action is covered by categorical exclusions A4 and A7 identified in FEMA Instruction 108-1-1 and Department of Homeland Security (DHS) Instruction 023-01-001-01, Appendix A.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Dated: December 21, 2016.
Roy E. Wright,
Deputy Associate Administrator for Insurance and Mitigation, Department of Homeland Security, Federal Emergency Management Agency.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ^ Elevation in meters (MSL) Modified | Communities affected
Tazewell County, Illinois and Incorporated Areas
Docket No.: FEMA-B-1120
Bull Run Creek | Approximately 900 feet upstream of the Prairie Creek confluence | +655 | Unincorporated Areas of Tazewell County, Village of Morton.
| At the upstream side of Idlewood Street extended | +680
Dempsey Creek | Approximately 1.4 miles upstream of the Farm Creek confluence | +541 | Unincorporated Areas of Tazewell County.
| Approximately 2.56 miles upstream of the Farm Creek confluence | +603
Farm Creek | Approximately 770 feet upstream of the railroad bridge | +740 | Unincorporated Areas of Tazewell County.
| At the downstream side of Diebel Road | +742
Fond Du Lac Creek | At the Farm Creek confluence | +492 | City of East Peoria, Unincorporated Areas of Tazewell County.
| At the downstream side of East Washington Street (State Route 8) | +508
Illinois River | At the upstream side of Mason Road extended | +454 | City of Pekin, Unincorporated Areas of Tazewell County.
| Approximately 1,950 feet upstream of State Route 9 | +457
Lick Creek | Approximately 480 feet downstream of Parkway Drive | +472 | City of Pekin.
| Approximately 680 feet upstream of Parkway Drive | +476
Mackinaw Creek | Approximately 0.97 mile downstream of Dee Mac Road (County Highway 6) | +588 | Village of Mackinaw.
| Approximately 0.78 mile downstream of Dee Mac Road (County Highway 6) | +591
Prairie Creek | Approximately 0.49 mile downstream of the Bull Run Creek confluence | +648 | Unincorporated Areas of Tazewell County.
| Approximately 650 feet downstream of Farm Road | +657
School Creek | At the Farm Creek confluence | +496 | City of East Peoria, Unincorporated Areas of Tazewell County.
| Approximately 0.91 mile upstream of Gravel Pit Access Road | +640
* National Geodetic Vertical Datum. + North American Vertical Datum. # Depth in feet above ground. ^ Mean Sea Level, rounded to the nearest 0.1 meter.
ADDRESSES
City of East Peoria
Maps are available for inspection at City Hall, 100 South Main Street, East Peoria, IL 61611.
City of Pekin
Maps are available for inspection at City Hall, 111 South Capitol Street, Pekin, IL 61554.
Unincorporated Areas of Tazewell County
Maps are available for inspection at McKenzie Building, 11 South 4th Street, 4th Floor, Pekin, IL 61554.
Village of Mackinaw
Maps are available for inspection at Village Hall, 100 East Fast Avenue, Mackinaw, IL 61755.
Village of Morton
Maps are available for inspection at Village Hall, 120 North Main Street, Morton, IL 61550.

[FR Doc. 2017-05452 Filed 3-17-17; 8:45 am]

BILLING CODE 9110-12-P